DEPARTMENT OF HOMELAND SECURITY

Transportation Security Administration

TSA Modernized Alternative Identity Verification User Fee

AGENCY: Transportation Security Administration, DHS.

ACTION: Notice.

SUMMARY: The Transportation Security Administration (TSA) is launching a modernized alternative identity verification program for individuals who present at the TSA checkpoint without the required acceptable form of identification (AFOID), such as a REAL ID or passport. This modernized program provides an alternative that may allow these individuals to gain access to the sterile area of an airport if TSA is able to establish their identity. To address the government-incurred costs, individuals who choose to use TSA's modernized alternative identity verification program will be required to pay an $18 fee. Participation in the modernized alternative identity verification program is optional and does not guarantee an individual will be granted access to the sterile area of an airport.

DATES: This notice is effective November 20, 2025.

FOR FURTHER INFORMATION CONTACT: ORCA Comms, TSA/RCA, Identity Management, Transportation Security Administration, 6595 Springfield Center Drive, Springfield, VA 20598-6047; 866-289-9673; or email at ORCACommunications@tsa.dhs.gov.

SUPPLEMENTARY INFORMATION: You can find an electronic copy of this Notice using the internet by accessing the Government Publishing Office's web page at https://www.govinfo.gov/app/collection/FR to view the daily published Federal Register edition or accessing the Office of the Federal Register's web page at https://www.federalregister.gov. Copies are also available by writing or contacting the individual in the FOR FURTHER INFORMATION CONTACT section, or by email at ORCACommunications@tsa.dhs.gov.

Abbreviations and Terms Used in This Document

AFOID—Acceptable Form of Identification

TDC—Travel Document Checker

TSA—Transportation Security Administration

I. Background

A. Current TSA Identity Verification

The TSA Administrator has broad statutory authority under the Aviation and Transportation Security Act to carry out security-related responsibilities in all modes of transportation, including civil aviation.¹ Among other duties and powers, the Administrator is responsible for federal security screening operations of passenger air transportation and intrastate air transportation.² Identity verification is the first step in the physical screening process at a TSA security checkpoint and the last link in intelligence-based traveler prescreening, ensuring that high-risk travelers are identified, and all individuals are directed to the appropriate level of physical screening designated by Secure Flight, TSA's passenger prescreening program.

¹ Public Law 107-71, sec. 101 (115 Stat. 597 (Nov. 19, 2001)) (codified at 49 U.S.C. 114(d)).

² 49 U.S.C. 114(e)(1).

TSA's primary method of identity verification is matching the information on an individual's travel documentation with a TSA AFOID ³ that the individual presents at the checkpoint. TSA expects individuals to present a TSA AFOID at the Travel Document Checker (TDC). For individuals who do not present an AFOID, TSA may provide the individual with an opportunity to participate in an alternative identification process to access the sterile area of the airport.⁴

³ TSA provides a list of acceptable IDs on its website (https://www.tsa.gov/travel/security-screening/identification).

⁴ The most common alternative identity verification service previously provided for individuals without an AFOID was establishing identity through the National Transportation Vetting Center, a TSA call-center that conducted knowledge-based identity verification. As part of the modernized alternative identity verification program, TSA is replacing this call-center with an automated, technology-supported service that's costs will be included in a fee borne by individuals benefiting from the service. Consistent with the Office of Management and Budget Circular A-4, “Regulatory Analysis,” this Fee Notice involves a transfer payment from one group (taxpayers paying for an individual's identity verification services provided by TSA) to another group (the beneficiary individual). Although it is difficult to precisely monetize and quantify social costs and benefits resulting from this transfer, the qualitative cost and benefit would be transferring the burden of identity verification for individuals without acceptable ID from taxpayers to the individuals seeking entry into the sterile area.

Use of TSA's alternative identity verification processes neither guarantees that an individual's identity will be verified nor that the individual will successfully be provided access to the sterile area of the airport. Individuals who verify their identity using TSA's alternative identity verification process also may be subject to additional screening or experience delays. Those individuals who do not have an AFOID and who choose not to use alternative identity verification or cooperate with the identity verification process will not be allowed to enter the sterile area of the airport. The current alternative identity verification process is time and resource intensive, limiting the number of individuals for whom TSA can provide the service.

B. Modernized Alternative Identity Verification

TSA is replacing the prior alternative identity verification process with a modernized alternative identity verification program that offers technology-enabled alternative for individuals who do not have an AFOID available to present at the TDC. If an individual chooses to use the program and submit the required information, TSA will use the individual's biographic and/or biometric information to verify identity and match the individual to their Secure Flight watch list result. TSA anticipates that this modernized program will increase efficiency for each individual by streamlining steps taken to verify an individual's identity and substantially increase the number of individuals for whom TSA can provide alternative identity verification by leveraging technology to significantly expand program capacity.

Similar to the current process, this modernized alternative identity verification program does not guarantee that an individual's identity will be verified or that the individual will be provided access to the sterile area of the airport. Individuals who verify their identity using the modernized alternative identity verification program may still be subject to additional screening or experience delays. Individuals who do not have an AFOID and who choose not to use the alternative identity verification program or cooperate with TSA's identity verification process will not be allowed to enter the sterile area of the airport. This modernized, technology-enabled program will provide additional methods of alternative identity verification beyond what TSA currently provides and reduce the time required to verify identities using the existing methods.

II. Authority To Collect Fee for Use of Alternative Identity Verification Program

Congress directed TSA to collect a non-refundable fee to cover the costs of any registered traveler program.⁵ This provision requires TSA to “impose a fee for any registered traveler program undertaken by the Department of Homeland Security by notice in the Federal Register” as long as the fees do not “exceed the aggregate costs associated with the program.” ⁶ TSA may also modify the fee through notice published in the Federal Register.⁷

⁵ See Department of Homeland Security Appropriations Act, 2006, Public Law 109-90, sec. 540, (119 Stat. 2064, 2088-89 (Oct. 18, 2005)) (codified at 49 U.S.C. 114 note).

⁶ Id.

⁷ Id.

TSA has determined that the modernized alternative identity verification program, where travelers seeking access to the sterile area of an airport register for the purpose of attempting alternative identity verification when they do not present an AFOID, and where the reliability of the alternative means used to establish identity allow TSA to set required screening based on reliability of those means, is a registered traveler program. Therefore, TSA must collect fees from individuals who do not present an AFOID at the security checkpoint, and who use TSA's modernized alternative identity verification program.⁸

⁸ See supra n.4.

Consistent with the statutory mandate, TSA is establishing a fee for users of the modernized alternative identity verification program to recover TSA's costs of providing this unique security service. The fee described in this notice is designed to fully recover TSA's costs of providing the modernized alternative identity verification program—including the initial development and deployment of the program—to individuals who choose to participate. The cost of the modernized program includes information technology infrastructure and services, software development, identity verification and validation, mobile computing costs, data infrastructure, integration, security and compliance, program management, as well as customer service and administrative costs. Requiring a fee for the modernized alternative identity verification program will ensure that the cost to administer this program is recovered from the users who benefit from it.

TSA will impose and collect a non-refundable fee of $18.00 per person at the time an individual registers and requests alternative identity verification using TSA-approved payment methods, which may include collection by third parties. TSA will not refund the fee, in whole or in part, to individuals whose identities are not verified or who are unable to enter the sterile area based upon the results of the identity verification process.

TSA anticipates that some individuals may use the program and pay the corresponding fee more than once. In addition, TSA may decide in certain scenarios to limit the number of times an individual may use the program if he or she repeatedly fails to present an AFOID when attempting to enter the sterile area.

III. Methodology To Calculate Fee

When setting fees for services, TSA adheres to Federal policy, including policy outlined in the Office of Management and Budget Circular A-25, dated July 8, 1993, regarding user charges. In summary, the circular provides information regarding the basis upon which user charges are to be established and implemented.

TSA has compiled a fee development report that provides a detailed discussion of the modernized alternative identity verification program's expected costs, expected population, and fee determination. A copy of the fee development report can be accessed at TSA.gov.

IV. Fee Announcement

The fee to use the modernized alternative identity verification program is $18.00 per individual, per 10-day use (provided the individual can successfully verify their identity for each use during the 10-day period), for the purpose of TSA using modernized alternative identity verification methods to verify a person's identity so he/she can be granted access to the sterile area of an airport. In addition to this notice, TSA will publish these fees on the TSA website TSA.gov. TSA may update this fee and availability of the program in the future through publication of a notice in the Federal Register.

Collection of the fee will begin when TSA announces that individuals may register for the modernized alternative identity verification program on the TSA website TSA.gov.

Dated: November 18, 2025
Ha Nguyen McNeill,
Senior Official Performing the Duties of the Administrator, Transportation Security Administration.

[FR Doc. 2025-20474 Filed 11-19-25; 8:45 am]

BILLING CODE 9110-05-P